DEPARTMENT OF HOUSING AND URBAN DEVELOPMENT

[Docket No. FR-4560-N-04]

Fair Housing Initiatives Program; Notice of Public Forum Focus Group Meeting Information

AGENCY: Office of the Assistant Secretary for Fair Housing and Equal Opportunity, HUD.

ACTION: Notice.

SUMMARY: This notice announces the availability of information from a Focus Group Meeting held in connection with the preparation for a National Best Practices Symposium for 2000. Among the topics discussed was information that may be related to the Fair Housing Partnership Component (FHPC) of the Fair Housing Initiatives Program (FHIP) funding availability announcement that was part of HUD's SuperNOFA, published February 24, 2000.

DATES: Comment Due Date: May 31, 2000.

ADDRESSES: Interested persons are invited to submit comments regarding any aspect of the Focus Group Meeting to the Rules Docket Clerk, Office of General Counsel, Room 10278, Department of Housing and Urban Development, 451 Seventh Street, S.W., Washington, D.C. 20410. Communications should refer to the above docket number and title. A copy of each communication submitted will be available for public inspection and copying between 7:30 a.m. and 5:30 p.m. weekdays at the above address.

FOR FURTHER INFORMATION CONTACT: For further information, please contact Lauretta A. Dixon, Director, FHIP/FHAP Support Division, Office of Fair Housing and Equal Opportunity, Department of Housing and Urban Development, Washington, DC 20410. As additional information regarding the Focus Groups Meetings becomes available, it will be posted on HUD's website (www.hud.gov/). Information also may be obtained by contacting your local HUD office, or by contacting the Office of Fair Housing and Equal Opportunity, or the Best Practices Office in the Department of Housing and Urban Development, 451 Seventh Street, SW, Room 4116, Washington, DC 20410; telephone (202) 708-4252 (This is not a toll-free number). Persons with hearing or speech impairments may access that number via TTY by calling the Federal Information Relay Service at 1-800-877-8339.

SUPPLEMENTARY INFORMATION

I. Background—Availability of Information and Request for Comments

In preparation for a National Best Practices Symposium for 2000, HUD is arranging Focus Group Meetings by each major office in the Department. In the Focus Group Meetings, groups and organizations that received 1999 Best Practices nominations and awards are invited to participate in the planning of the 2000 Symposium. On February 24, 2000, the Office of Fair Housing and Equal Opportunity conducted a Focus Group Meeting entitled, “Building Fair Housing and Equal Opportunity Coalitions—A Model for Ending Discrimination in Communities.” Some of the participants in this Building FHEO Coalitions Focus Group Meeting are current Fair Housing Partners under the Fair Housing Initiatives and the Fair Housing Assistance Programs, and some of the discussions that took place may be helpful to applicants under the Fair Housing Partnership Component (FHPC) of the Fair Housing Initiatives Program (FHIP) funding availability announcement that was part of HUD's SuperNOFA, published February 24, 2000 (see 65 FR 9322, at 9485).

Those attending the Focus Group Meeting on Building FHEO Coalitions responded to an invitation sent to all 1999 Best Practices nominees, and came at their own expense to participate in this Meeting, which was held at HUD, 451 7th Street, SW, Washington, DC, from 8:30 AM to 4:30 PM. The following attendees represented fair housing agencies: Tracey Gill, Baltimore Neighborhoods, Inc.; Lee Porter, Fair Housing Council, New Jersey; Mary Davis, Cuyahoga County (Ohio) Department of Development; Louise W. Lorenz and Jan Alderton Pallesen of the Cedar Rapids, Iowa, Civil Rights Commission; Nancy Downing of the Connecticut Fair Housing Center; and Barbara Snow and Tyrone Davis of the Housing Authority of Baltimore City. Attendees met with HUD officials in a one day session to discuss a HUD model for “Building Fair Housing and Equal Opportunity Coalitions—A Model for Ending Discrimination in Communities,” and strengths and weaknesses within that model.

This Notice is published to inform the public that an audio tape of the Focus Group Meeting is available by contacting any of the sources listed in the FOR FURTHER INFORMATION CONTACT section of this notice. The text of the model document discussed at the meeting follows below in section II. of this notice. HUD invites the public to comment on this model document. The Department also welcomes comments on the issues discussed in the Focus Group Meeting. Please submit your comments in accordance with the requirements of the DATES and ADDRESSES sections of this notice. After consideration of the comments received, HUD may prepare a revised model for presentation at the National Best Practices Symposium for 2000.

II. Discussion Document

The following document was discussed at the Focus Group Meeting held on February 24, 2000:

Building Fair Housing and Equal Opportunity Coalitions A Model for Ending Discrimination in Communities

The Department of Housing and Urban Development is committed to eliminating racial and ethnic segregation, illegal physical and other barriers to persons with disabilities and other discriminatory practices in housing. Equal and free access to residential housing (housing choice) is fundamental to meeting essential needs and pursuing personal, educational, employment, or other goals. Because housing choice is so critical, fair housing is a goal that Government, public officials, and private citizens must achieve if equal opportunity is to become a reality.

HUD works with various agencies across the country to help remedy discrimination in the housing industry. Working in communities, these agencies enforce substantially equivalent fair housing laws and ordinances and educate and promote fair housing awareness. Great strides have been made in increasing awareness and breaking down the barriers to equal housing choice in America. However, until discrimination is eliminated, we must continue to explore ways to better address the causes of discrimination and methods for breaking down the barriers that prevent equal housing choices. Developing local fair housing partnerships is one such method for improving performance.

Local fair housing partnerships are an essential component of any community's strategy for fighting for fair housing. Working together, organizations can expand their resources and build on each others experience and efforts to combat the negative forces within a community that foster discrimination.

Performance Goal: Developing local fair housing partnerships will result in more housing options, both rental and homeownership, for persons in a community, regardless of race, color, religion, sex, national origin, familial status or disability.

Guiding Principles for Forming Fair Housing Partnerships: Overall there are two overriding reasons to form fair housing partnerships, one is the commitment to a common goal, the other is the need to stretch scarce resources.

Shared Vision: Fair Housing organizations have a common goal: reducing and eventually eliminating discrimination in housing. Other organizations within the community have shared and/or mutual interests in achieving the goal of fair housing.

Resources Sharing: Organizations are limited by the amount of resources they have. Government resources are either being reduced and/or becoming increasingly competitive to acquire. Resource sharing can leverage the limited budgets of organizations and result in more positive outcomes.

Factors for Building Successful Fair Housing Partnerships

Factor #1: Identify key stakeholders. Within every community several organizations, agencies and individuals have an interest in eliminating discrimination. Seek out and identify who these entities are within your community. Examples include:

Fair Housing Organizations. Fair housing organizations, including human relations commissions and voluntary, nonprofit organizations focusing on fair housing problems

Other Governments. Other government agencies and/or authorities in the metropolitan area or region

Advocacy Groups. Advocacy groups and organizations that have among their concerns the needs (including housing needs) of particular segments of the population, such as people with disabilities; families with children; immigrants and homeless persons; and specific racial or ethnic groups (Blacks, Hispanics, Native Americans, Asian Americans, Alaskan Natives)

Housing Providers. Housing providers and representatives of landlords/owners.

Banks and Other Financial Institutions. Banks and other financial institutions that can provide loans (including residential) and other financial support to improve homes or areas of the community where living conditions have deteriorated

Educational Institutions. Educational institutions and their representatives, including the administrators and teachers/professors who can assist in conducting studies and developing educational activities for delivery in formal and informal settings.

Other Organizations. Other organizations and individuals, such as neighborhood organizations and representatives, can provide information, ideas, or support.

General Public. The general public can also be involved and can be a critical element in successful program implementation

Factor #2: Develop Your Organization's Purpose. Organizations should develop an comprehensive vision that outlines the desired outcomes they intend to pursue. They should also develop a mission statement that describes the strategy for achieving the organization's vision. Identifying the organization's purpose will help clarify roles in future partnerships.

Factor #3: Identify Common Goals. Seek out organizations that share your organization's goals and objectives. Once these are identified, discussions regarding mutual benefits and outcomes can be discussed and the benefits of partnership explored.

Factor #4: Seek Out Non-Traditional Partners. Organizations may have common interests in outcomes that result from equal housing choice. Private industry organizations may realize more profits as a result of fair housing partnerships through the generation of more business.

Factor #5: Establish the Partnership. Clearly define the roles and responsibilities of each of the partners. If feasible, codify the relationships through written agreements, such as Memorandum of Understandings. Develop procedures/policies that facilitate the success of the partnership. The partnership should also establish goals and objectives that will determine the success of the partnership.

Factor #6: Resource Identification. Clearly define the resources, financial, human or institutional, that each of the partners brings to the table. A delineation and definition of how the resources will be shared and/or leveraged should be included in any written agreement.

Factor #7: Evaluation. The partners should continually assess the progress being made toward stated goals and objectives and evaluate areas for improvement. This will help ensure that the partners are obtaining the desired results from the partnership.

The formation of partnerships between organizations or between public and private entities has several benefits. Most agencies will have the same goals, missions and objectives, so partnerships are logical. There are programmatic and efficiency reasons, including but not limited to, the following.

Reduce Duplication of Effort

With agencies performing similar activities there is the chance of a duplication of effort. For example, a variety of groups may provide the public with an awareness of the fair housing laws. By pooling resources and working together they reduce the chance of duplication of effort and money saved can be used for other efforts.

Work in the Community

Together they can have a strong voice in the community. Their partnering can influence state and local decisions regarding housing.

Looking to Help the Same People

The federal Fair Housing Act fights discrimination in housing if it is based on one the following classes: color, religion, handicap, familial status, race, sex, and national origin. Agencies will, at a minimum, provide protection for these classes.

Use Respective Strengths to Help Each Other

There are times between grants when agencies, unfortunately because they rely so heavily on government money, have little left to continue their operations. Partners have been known to step in during these periods to provide subcontracts to the such agencies to keep them operating.

Ensure Consistency of Effort

It is important that both the public and private entities are performing their tasks in ways that accurately reflect the fair housing laws in their communities. Having open communication and knowing what each other is doing ensures that each is following the laws.

Coordinating With Other Governmental Agencies

Oftentimes, the work of enforcing the provisions of the Federal Fair Housing Act and the substantially equivalent fair housing laws or States and local governments, require crossing governmental (State/local/Federal) lines. It can require that public and/or private agencies work with the Federal government to complete a specific task.

Partnerships can form when groups looking for similar outcomes can pool limited resources to reach those outcomes. The major goal of fair housing agencies is to combat housing discrimination through education and enforcement activities.

Dated: April 21, 2000.
Eva M. Plaza,
Assistant Secretary for Fair Housing and Equal Opportunity.

[FR Doc. 00-10797 Filed 4-28-00; 8:45 am]

BILLING CODE 4210-28-P